ENVIRONMENTAL PROTECTION AGENCY

40 CFR Part 60

[EPA-HQ-OAR-2007-0011; FRL-9904-07-OAR]

RIN 2060-AS03

Standards of Performance for Petroleum Refineries for Which Construction, Reconstruction, or Modification Commenced After May 14, 2007

AGENCY: Environmental Protection Agency (EPA).

ACTION: Proposed rule.

SUMMARY: The Environmental Protection Agency (EPA) is proposing to amend the Standards of Performance for Petroleum Refineries for Which Construction, Reconstruction, or Modification Commenced After May 14, 2007. In the “Rules and Regulations” section of this Federal Register, we are amending the definition of “delayed coking unit” as a direct final rule without a prior proposed rule. If we receive no adverse comment, we will not take further action on this proposed rule.

DATES: Comments: Written comments must be received by February 3, 2014.

Public Hearing: If anyone contacts EPA requesting to speak at a public hearing by December 24, 2013, a public hearing will be held on January 3, 2014.

ADDRESSES: Submit your comments, identified by Docket ID Number EPA-HQ-OAR-2007-0011, by mail to Air and Radiation Docket (2822T), 1200 Pennsylvania Avenue NW., Washington, DC 20460. Please include a total of two copies. Comments may also be submitted electronically or through hand delivery/courier by following the detailed instructions in the ADDRESSES section of the direct final rule located in the rules section of this Federal Register.

We request that you also send a separate copy of each comment to the contact person listed below (see FOR FURTHER INFORMATION CONTACT).

FOR FURTHER INFORMATION CONTACT: Ms. Brenda Shine, Sector Policies and Programs Division (E143-01), Office of Air Quality Planning and Standards, U.S. Environmental Protection Agency, Research Triangle Park, NC 27711; telephone number: (919) 541-3608; fax number: (919) 541-0246; and email address: shine.brenda@epa.gov. For information about the applicability of the New Source Performance Standards (NSPS) to a particular entity, contact Maria Malave, Office of Enforcement and Compliance Assurance (OECA), U.S. Environmental Protection Agency, telephone number: (202) 564-7027; fax number: (202) 564-0050; and email address: malave.maria@epa.gov.

SUPPLEMENTARY INFORMATION:

I. Why is the EPA issuing this proposed rule?

This document proposes to take action on amendments to the standards of performance for petroleum refineries at 40 CFR part 60, subpart Ja. We are proposing to amend the definition of “delayed coking unit” in 40 CFR 60.101a and to remove a redundant definition of “delayed coking unit” in that same section. We have published a direct final rule revising the definition of “delayed coking unit” in the “Rules and Regulations” section of this Federal Register because we view this as a noncontroversial action and anticipate no adverse comment. We have explained our reasons for this action in the preamble to the direct final rule.

If we receive no adverse comment and no request for a public hearing on the parallel direct final rule, we will not take further action on this proposed rule. If we receive adverse comment on a distinct portion of the direct final rule, we will withdraw that portion of the rule and it will not take effect. In this instance, we would address all public comments in any subsequent final rule based on this proposed rule.

If we receive adverse comment on a distinct provision of the direct final rule, we will publish a timely withdrawal in the Federal Register indicating which provisions we are withdrawing. The provisions that are not withdrawn will become effective on the date set out in the direct final rule, notwithstanding adverse comment on any other provision. We do not intend to institute a second comment period on this action. Any parties interested in commenting must do so at this time.

The regulatory text for the proposal is identical to that for the direct final rule published in the “Rules and Regulations” section of this Federal Register. For further supplementary information, the detailed rationale for the proposal and the regulatory revisions, see the direct final rule published in a separate part of this Federal Register.

II. Does this action apply to me?

Categories and entities potentially regulated by this final rule include:

Category | NAICS Code ¹ | Examples of regulated entities
Industry | 32411 | Petroleum refiners.
Federal government |  | Not affected.
State/local/tribal government |  | Not affected.
¹ North American Industry Classification System.

This table is not intended to be exhaustive, but rather provides a guide for readers regarding entities likely to be regulated by this direct final rule. To determine whether your facility would be regulated by this action, you should examine the applicability criteria in 40 CFR 60.100a. If you have any questions regarding the applicability of this action to a particular entity, contact the person listed in the preceding FOR FURTHER INFORMATION CONTACT section.

Public Hearing. Persons interested in presenting oral testimony or inquiring as to whether a hearing is to be held should contact Ms. Virginia Hunt, U.S. EPA, Office of Air Quality Planning and Standards, Sector Policies and Programs Division, Refining and Chemicals Group (E143-01), Research Triangle Park, NC 27711; telephone number: (919) 541-0832, email address: hunt.virginia@epa.gov, at least 2 days in advance of the potential date of the public hearing. If a public hearing is held, it will be held at 10 a.m. at EPA's Campus located at 109 T.W. Alexander Drive in Research Triangle Park, NC, or an alternate site nearby. If no one contacts EPA requesting to speak at a public hearing concerning this rule by December 24, 2013 this hearing will be cancelled without further notice.

III. Statutory and Executive Orders

For a complete discussion of all of the administrative requirements applicable to this action, see the direct final rule in the “Rules and Regulations” section of this Federal Register.

List of Subjects in 40 CFR Part 60

Environmental protection, Administrative practice and procedure, Air pollution control, Intergovernmental relations, Reporting and recordkeeping requirements.

Dated: December 4, 2013.
Gina McCarthy,
Administrator.

[FR Doc. 2013-29729 Filed 12-18-13; 8:45 am]

BILLING CODE 6560-50-P